DEPARTMENT OF ENERGY

Federal Energy Regulatory Commission

Combined Notice of Filings

February 13, 2008.

Take notice that the Commission received the following electric corporate filings:

Docket Numbers: EC08-41-000.

Applicants: Griffith Energy LLC.

Description: Griffith Energy LLC submits an application for transfer of an agreement unaffiliated third party to provide electric power and replacement service energy beginning 5/1/08.

Filed Date: 02/06/2008.

Accession Number: 20080208-0204.

Comment Date: 5 p.m. Eastern Time on Wednesday, February 27, 2008.

Docket Numbers: EC08-42-000.

Applicants: Puget Sound Energy, Inc.

Description: Application for authorization to acquire an existing generation facility re Puget Sound Energy Inc.

Filed Date: 02/07/2008.

Accession Number: 20080212-0108.

Comment Date: 5 p.m. Eastern Time on Thursday, February 28, 2008.

Take notice that the Commission received the following exempt wholesale generator filings:

Docket Numbers: EG08-34-000.

Applicants: Capricorn Ridge Wind II, LLC.

Description: Notice of Self-Certification of Exempt Wholesale Generator Status of Capricorn Ridge Wind II, LLC.

Filed Date: 02/06/2008.

Accession Number: 20080205-5040.

Comment Date: 5 p.m. Eastern Time on Wednesday, February 27, 2008.

Docket Numbers: EG08-35-000.

Applicants: Texas Gulf Wind LLC.

Description: Texas Gulf Wind LLC's Notice of Self-Certification of Exempt Wholesale Generator Status.

Filed Date: 02/06/2008.

Accession Number: 20080206-5054.

Comment Date: 5 p.m. Eastern Time on Wednesday, February 27, 2008.

Take notice that the Commission received the following electric rate filings:

Docket Numbers: ER96-25-032; ER01-1363-010.

Applicants: Coral Power, L.L.C.; Coral Energy Management, LLC.

Description: Coral Power, LLC and Coral Energy Management, LLC submits a notice of change in status in compliance with the reporting requirements set forth in section 3542 of the regulations of FERC and Order 652.

Filed Date: 02/11/2008.

Accession Number: 20080213-0076.

Comment Date: 5 p.m. Eastern Time on Monday, March 03, 2008.

Docket Numbers: ER98-855-009.

Applicants: Wisconsin Electric Power Company.

Description: Wisconsin Electric Power Company submits a Notice of Change in Status and Revised Market Rate Power Sales Tariff.

Filed Date: 02/04/2008.

Accession Number: 20080208-0146.

Comment Date: 5 p.m. Eastern Time on Monday, February 25, 2008.

Docket Numbers: ER02-305-007.

Applicants: Condon Wind Power, LLC.

Description: Condon Wind Power, LLC submits an amended Appendix B correcting certain errors and making clarifications found in their 11/9/07 filing.

Filed Date: 02/07/2008.

Accession Number: 20080211-0062.

Comment Date: 5 p.m. Eastern Time on Thursday, February 28, 2008.

Docket Numbers: ER03-478-020; ER08-387-002; ER06-200-013; ER07-254-005; ER03-1326-013; ER07-460-004; ER05-534-014; ER05-365-014; ER05-1262-012; ER06-1093-008; ER03-296-016; ER01-3121-015; ER02-418-014; ER03-416-017; ER05-332-014; ER07-287-007; ER07-242-007; ER03-951-016; ER04-94-014; ER02-417-014; ER07-1378-004; ER05-1146-014; ER05-481-014; ER07-240-008; ER07-195-005; ER02-2085-009;

Applicants: PPM Energy Inc.; Atlantic Renewables Projects II LLC; Big Horn Wind Project LLC; Casselman Windpower, LLC; Colorado Green Holdings, LLC; Dillon Wind LLC; Eastern Desert Power LLC; Elk River Windfarm LLC; Flat Rock Windpower LLC; Flat Rock Windpower II LLC; Flying Cloud Power Partners, LLC; Klamath Energy LLC; Klamath Generation LLC; Klondike Wind Power LLC; Klondike Wind Power II LLC; Klondike Wind Power III LLC; MinnDakota Wind LLC; Moraine Wind LLC; Mountain View Power Partners III, LLC; Phoenix Wind Power LLC; Providence Heights Wind, LLC; Shiloh I Wind Project LLC; Trimont Wind I LLC; Twin Buttes Wind LLC; Locust Ridge Wind Farm, LLC; Northern Iowa Windpower II LLC;

Description: PPM Energy Inc et al, collectively the Iberdrola Companies notifies FERC of a change in status resulting from the partial completion of the transaction authorized by FERC in their Order issued 9/27/07.

Filed Date: 02/05/2008.

Accession Number: 20080207-0055.

Comment Date: 5 p.m. Eastern Time on Tuesday, February 26, 2008.

Docket Numbers: ER03-1207-006.

Applicants: AES Delano, Inc., Covanta Delano, Inc.

Description: Covanta Delano, Inc submits an amendment to its 12/26/07 Order 697 compliance filing to revise its market-based rate tariff.

Filed Date: 02/06/2008.

Accession Number: 20080207-0204.

Comment Date: 5 p.m. Eastern Time on Wednesday, February 27, 2008.

Docket Numbers: ER05-131-005.

Applicants: Erie Boulevard Hydropower, LP.

Description: Erie Boulevard Hydropower, LP submits Original Sheet 1 et al to FERC Electric Tariff, Fourth Revised Volume 1, effective 9/18/07.

Filed Date: 02/06/2008.

Accession Number: 20080207-0075.

Comment Date: 5 p.m. Eastern Time on Wednesday, February 27, 2008.

Docket Numbers: ER06-451-027; ER06-729-004.

Applicants: Southwest Power Pool, Inc.

Description: Southwest Power Pool Inc submits a status and compliance report regarding issues relating to Energy Imbalance Service Market.

Filed Date: 02/04/2008.

Accession Number: 20080207-0054.

Comment Date: 5 p.m. Eastern Time on Monday, February 25, 2008.

Docket Numbers: ER06-615-018.

Applicants: California Independent System Operator Corporation.

Description: California Independent System Operator Corp submits report entitled the First Annual Report Evaluating Demand Response for Calendar Year 2007 pursuant to FERC's 6/25/07 Order.

Filed Date: 01/25/2008.

Accession Number: 20080201-0140.

Comment Date: 5 p.m. Eastern Time on Tuesday, February 19, 2008.

Docket Numbers: ER06-615-019; ER07-1257-002.

Applicants: California Independent System Operator Corporation.

Description: California Independent System Operator Corporation submits its filing in compliance with FERC's 1/9/08 Order.

Filed Date: 02/08/2008.

Accession Number: 20080212-0117.

Comment Date: 5 p.m. Eastern Time on Friday, February 29, 2008.

Docket Numbers: ER07-1137-001.

Applicants: Lockhart Power Company.

Description: Lockhart Power Company submits substitute tariff sheets containing revisions to certain provisions in Lockhart's market-based rate tariff.

Filed Date: 02/05/2008.

Accession Number: 20080208-0274.

Comment Date: 5 p.m. Eastern Time on Tuesday, February 26, 2008.

Docket Numbers: ER07-1171-003; OA07-19-002; OA07-43-002.

Applicants: Arizona Public Service Company.

Description: Arizona Public Service Co submits clean and revised tariff sheet to its Fourteenth Revised Volume 2 in compliance with FERC's 12/7/07 Orders.

Filed Date: 02/07/2008.

Accession Number: 20080211-0046.

Comment Date: 5 p.m. Eastern Time on Thursday, February 28, 2008.

Docket Numbers: ER07-1199-001.

Applicants: Airtricity Munnsville Wind Farm, LLC.

Description: Airtricity Munnsville Wind Farm, LLC submits 2nd Sub First Revised Sheet 5 to FERC Electric Tariff, Original Volume 1.

Filed Date: 02/07/2008.

Accession Number: 20080211-0178.

Comment Date: 5 p.m. Eastern Time on Friday, February 22, 2008.

Docket Numbers: ER07-1421-002; ER07-1422-002.

Applicants: PJM Interconnection, LLC.

Description: Virginia Electric and Power Co responds to FERC's 1/7/08 deficiency letter.

Filed Date: 02/06/2008.

Accession Number: 20080208-0179.

Comment Date: 5 p.m. Eastern Time on Wednesday, February 27, 2008.

Docket Numbers: ER08-23-002.

Applicants: Massie Power LLC.

Description: Massie Power LLC submits a market-based rate authority and Substitute Original Sheet 1 et al. to FERC Electric Tariff Original Volume 1.

Filed Date: 02/06/2008.

Accession Number: 20080208-0178.

Comment Date: 5 p.m. Eastern Time on Wednesday, February 27, 2008.

Docket Numbers: ER08-207-001.

Applicants: Midwest Independent Transmission System.

Description: Midwest Independent Transmission System Operator, Inc submits one revision to Section 43.2.4 of its Open Access Transmission and Energy Markets Tariff required by the Commission's 1/11/08 Order.

Filed Date: 02/11/2008.

Accession Number: 20080212-0047.

Comment Date: 5 p.m. Eastern Time on Monday, March 03, 2008.

Docket Numbers: ER08-209-002.

Applicants: Midwest Independent Transmission System.

Description: Midwest Independent Transmission System Operator, Inc submits unexecuted Large Generator Interconnection Agreement with Prairie State Generating Company, LLC et al.

Filed Date: 02/11/2008.

Accession Number: 20080213-0080.

Comment Date: 5 p.m. Eastern Time on Monday, March 03, 2008.

Docket Numbers: ER08-251-001.

Applicants: PJM Interconnection, LLC.

Description: PJM Interconnection, LLC submits a substitute interconnection service agreement with Industrial Power Generating Co LLC et al.

Filed Date: 02/06/2008.

Accession Number: 20080208-0177.

Comment Date: 5 p.m. Eastern Time on Wednesday, February 27, 2008.

Docket Numbers: ER08-299-001.

Applicants: Snowflake White Mountain Power, LLC.

Description: Snowflake White Mountain Power, LLC submits revised tariff sheets in compliance with the January 11, 2008 letter order.

Filed Date: 02/11/2008.

Accession Number: 20080213-0075.

Comment Date: 5 p.m. Eastern Time on Monday, March 03, 2008.

Docket Numbers: ER08-331-003.

Applicants: Southwest Power Pool, Inc.

Description: Southwest Power Pool, Inc submits a revised executed Service Agreement for Network Integration Transmission Service between SPP as Transmission Provider and American Electric Power Services Corporation, etc.

Filed Date: 02/08/2008.

Accession Number: 20080211-0307.

Comment Date: 5 p.m. Eastern Time on Thursday, February 21, 2008.

Docket Numbers: ER08-354-002.

Applicants: Wells Fargo Energy Markets, LLC.

Description: Wells Fargo Energy Markets LLC submits 2nd Sub Original Sheet 4 to correct the typographical error noted in the 1/30/08 filing of certain amendment to its application for market-based rates.

Filed Date: 02/05/2008.

Accession Number: 20080207-0053.

Comment Date: 5 p.m. Eastern Time on Tuesday, February 26, 2008.

Docket Numbers: ER08-363-001; ER08-393-001.

Applicants: PJM Interconnection, LLC.

Description: PJM Interconnection, LLC submits its response to FERC's 1/8/08 deficiency letter and on 2/11/08 submits an errata to this filing.

Filed Date: 02/07/2008; 02/11/2008.

Accession Number: 20080211-0061; 20080212-0059.

Comment Date: 5 p.m. Eastern Time on Thursday, February 28, 2008.

Docket Numbers: ER08-370-001.

Applicants: Midwest Independent Transmission System.

Description: Missouri River Energy Services submits its Notice of Partial Withdrawal of Attachment O Variance Filing etc.

Filed Date: 02/05/2008.

Accession Number: 20080208-0176.

Comment Date: 5 p.m. Eastern Time on Tuesday, February 26, 2008.

Docket Numbers: ER08-392-000.

Applicants: PJM Interconnection, LLC.

Description: Motion to Withdraw Filing of PJM Interconnection, LLC.

Filed Date: 02/06/2008.

Accession Number: 20080206-5057.

Comment Date: 5 p.m. Eastern Time on Wednesday, February 27, 2008.

Docket Numbers: ER08-393-000.

Applicants: PJM Interconnection, LLC.

Description: Motion to Withdraw Filing of PJM Interconnection, LLC.

Filed Date: 02/06/2008.

Accession Number: 20080206-5058.

Comment Date: 5 p.m. Eastern Time on Wednesday, February 27, 2008.

Docket Numbers: ER08-475-001.

Applicants: Florida Power & Light Company.

Description: Florida Power & Light Company requests that the Commission accept the executed addendum to Exhibit A6, the Mannville Delivery Point Agreement to Service Agreement 162.

Filed Date: 02/08/2008.

Accession Number: 20080211-0306.

Comment Date: 5 p.m. Eastern Time on Friday, February 29, 2008.

Docket Numbers: ER08-500-000.

Applicants: Pacific Gas and Electric Company.

Description: Pacific Gas and Electric Company submits Twentieth Quarterly Filing of Facilities Agreements.

Filed Date: 01/31/2008.

Accession Number: 20080208-0167.

Comment Date: 5 p.m. Eastern Time on Thursday, February 21, 2008.

Docket Numbers: ER08-536-000.

Applicants: Polytop Corporation.

Description: Polytop Corporation submits their FERC Electric Tariff, Original Volume 1.

Filed Date: 02/05/2008.

Accession Number: 20080206-0167.

Comment Date: 5 p.m. Eastern Time on Tuesday, February 26, 2008.

Docket Numbers: ER08-537-000.

Applicants: Safe Harbor Water Power Corp.

Description: Safe Harbor Water Power Corporation's application for Market-Based Rate Tariff and Granting Certain Waivers and Blanket Approvals FERC Electric Tariff Original Volume 1, proposed to be effective 3/1/08.

Filed Date: 02/05/2008.

Accession Number: 20080207-0056.

Comment Date: 5 p.m. Eastern Time on Tuesday, February 26, 2008.

Docket Numbers: ER08-539-000.

Applicants: Xcel Energy Services Inc.

Description: Xcel Energy Services on behalf of Public Service Company of Colorado submits the Renewable Energy Certificate Rider with Holy Cross Energy, Inc.

Filed Date: 01/30/2008.

Accession Number: 20080208-0175.

Comment Date: 5 p.m. Eastern Time on Wednesday, February 20, 2008.

Docket Numbers: ER08-540-000.

Applicants: Xcel Energy Services Inc.

Description: Xcel Energy Services on behalf of Public Service Co of Colorado submits the Renewable Energy Certificate Rider.

Filed Date: 01/30/2008.

Accession Number: 20080208-0174.

Comment Date: 5 p.m. Eastern Time on Wednesday, February 20, 2008.

Docket Numbers: ER08-541-000.

Applicants: American Electric Power Service Corp.

Description: AEP Operating Companies submits First Revised Interconnection and Local Delivery Service Agreement.

Filed Date: 02/07/2008.

Accession Number: 20080208-0173.

Comment Date: 5 p.m. Eastern Time on Thursday, February 28, 2008.

Docket Numbers: ER08-542-000.

Applicants: Xcel Energy Services Inc.

Description: Public Service Company of Colorado submits the Renewable Energy Certificate Rider with Yampa Valley Electric Association, Inc on 12/13/07.

Filed Date: 01/30/2008.

Accession Number: 20080211-0063.

Comment Date: 5 p.m. Eastern Time on Wednesday, February 20, 2008.

Docket Numbers: ER08-543-000.

Applicants: JPMorgan Chase Bank, N.A.

Description: JPMorgan Chase Bank NA submits a Notice of Cancellation of its market-based rate tariff, Second Rate Schedule FERC 1.

Filed Date: 02/08/2008.

Accession Number: 20080211-0058.

Docket Numbers: ER08-544-000.

Applicants: PJM Interconnection, LLC.

Description: PJM Interconnection LLC submits revisions to the Reliability Pricing Model of the PJM Open Access Transmission Tariff, FERC Electric Tariff, Sixth Revised Volume 1.

Filed Date: 02/08/2008.

Accession Number: 20080211-0057.

Comment Date: 5 p.m. Eastern Time on Friday, February 29, 2008.

Docket Numbers: ER08-545-000.

Applicants: Xcel Energy Operating Companies.

Description: Southwestern Public Service Co submits a Connection Agreement with Golden Spread Electric Cooperative Inc designated as Service Agreement 608 to FERC Electric Tariff, Original Volume 6.

Filed Date: 02/08/2008.

Accession Number: 20080211-0056.

Comment Date: 5 p.m. Eastern Time on Friday, February 29, 2008.

Docket Numbers: ER08-547-000.

Applicants: PJM Interconnection, LLC.

Description: PJM Interconnection LLC submits revisions to its Amended and Restated Operating Agreement.

Filed Date: 02/08/2008.

Accession Number: 20080211-0304.

Comment Date: 5 p.m. Eastern Time on Friday, February 29, 2008.

Docket Numbers: ER08-548-000.

Applicants: NorthWestern Corporation.

Description: NorthWestern Corporation submits a Notice of Cancellation of its FERC Electric Tariff, Original Volume 1, NorthWestern's Rate Schedule WS-1, NorthWestern requests that Commission grant any waivers to become effective as of 2/8/08.

Filed Date: 02/08/2008.

Accession Number: 20080211-0303.

Comment Date: 5 p.m. Eastern Time on Friday, February 29, 2008.

Docket Numbers: ER08-549-000; ER08-550-000.

Applicants: PJM Interconnection, LLC and Virginia.

Description: Virginia Electric and Power Company submits a revised Attachment H-16D to the Open Access Transmission Tariff administered by PJM Interconnection, LLC etc.

Filed Date: 02/08/2008.

Accession Number: 20080211-0305.

Comment Date: 5 p.m. Eastern Time on Friday, February 29, 2008.

Docket Numbers: ER08-551-000.

Applicants: MidAmerican Energy Company.

Description: MidAmerican Energy Co submits their First Amendment to Engineering and Procurement Agreement dated 2/7/08 with the Generation Supply Function of MidAmerican.

Filed Date: 02/11/2008.

Accession Number: 20080212-0046.

Comment Date: 5 p.m. Eastern Time on Monday, March 03, 2008.

Docket Numbers: ER08-552-000.

Applicants: Niagara Mohawk Power Corporation.

Description: Niagara Mohawk Power Corp submits amendments to the New York Independent System Operator, Inc FERC Electric Tariff, Original Volume I.

Filed Date: 02/11/2008.

Accession Number: 20080212-0048.

Comment Date: 5 p.m. Eastern Time on Monday, March 03, 2008.

Take notice that the Commission received the following open access transmission tariff filings:

Docket Numbers: OA07-47-002.

Applicants: Tampa Electric Company.

Description: Tampa Electric Co submits Substitute Original Sheet 22 & 23 to its FERC Electric Tariff, Third Revised Volume 4, Open Access Transmission Tariff.

Filed Date: 02/08/2008.

Accession Number: 20080212-0116.

Comment Date: 5 p.m. Eastern Time on Friday, February 29, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-3285 Filed 2-21-08; 8:45 am]

BILLING CODE 6717-01-P